DEPARTMENT OF HEALTH AND HUMAN SERVICES

Centers for Disease Control and Prevention

[CDC-2016-0067, Docket Number NIOSH 270-A]

NIOSH Center for Motor Vehicle Safety: Midcourse Review of Strategic Plan

AGENCY: National Institute for Occupational Safety and Health (NIOSH) of the Centers for Disease Control and Prevention (CDC), Department of Health and Human Services (HHS).

ACTION: Notice of public web meeting and request for comment.

SUMMARY: The National Institute for Occupational Safety and Health of the Centers for Disease Control and Prevention announces a public web meeting and an opportunity to comment on future directions for the NIOSH Center for Motor Vehicle Safety. To view the notice and related materials, visit http://www.regulations.gov and enter CDC-2016-0067 in the search field and click “Search.”

TABLE OF CONTENTS

• Dates:

• Addresses:

• For Further Information Contact:

• Supplementary Information:

I. Background

II. Public Web Meeting

• Instructions:

DATES: The public web meeting will be held on September 14, 2016 from 1:00 p.m. to 5:00 p.m. Eastern Time, or after the last public commenter in attendance has spoken, whichever occurs first. The public web meeting will be a web-based event available only by remote access. Written comments submitted to the docket must be received by October 14, 2016.

ADDRESSES: You may submit written comments, identified by CDC-2016-0067 and Docket Number NIOSH 270-A, by either of the following methods:

• Federal eRulemaking Portal: http://www.regulations.gov Follow the instructions for submitting comments.

• Mail: National Institute for Occupational Safety and Health, NIOSH Docket Office, 1090 Tusculum Avenue, MS C-34, Cincinnati, Ohio 45226-1998.

FOR FURTHER INFORMATION CONTACT: Dr. Rosa L. Rodriguez, Division of Safety Research, 1095 Willowdale Road, MS 1808, Morgantown, West Virginia 26505-2888, (304) 285-6299 (not a toll free number), rer3@cdc.gov; or Dr. Stephanie G. Pratt, Division of Safety Research, 1095 Willowdale Road, MS 1808, Morgantown, West Virginia 26505-2888, (304) 285-5992 (not a toll free number), sgp2@cdc.gov.

SUPPLEMENTARY INFORMATION:

I. Background

The National Institute for Occupational Safety and Health (NIOSH) is seeking input on the progress and future direction of its Center for Motor Vehicle Safety to ensure that the program is (1) addressing goals outlined in the NIOSH Center for Motor Vehicle Safety: Strategic Plan for Research and Prevention, 2014-2018 http://www.cdc.gov/niosh/docs/2014-122/pdfs/2014-122.pdf; (2) meeting stakeholder needs; and (3) working effectively toward its overarching purpose of preventing work-related crashes and injuries.

Motor vehicle crashes are the leading cause of work-related injury deaths in the United States. Millions of workers drive or ride in a motor vehicle as part of their jobs. The risk affects workers in all industries and occupations, whether they drive heavy or light vehicles on the job.

Between 2003 and 2014, 22,000 workers died in work-related motor vehicle crashes. In 2013 alone, motor vehicle crashes at work cost U.S. employers $25 billion—$65,000 per nonfatal injury and $671,000 per death.

NIOSH is the only U.S. federal agency whose mission encompasses prevention of work-related motor vehicle crashes and resulting injuries for all worker populations. Since 2014, the NIOSH Center for Motor Vehicle Safety has followed a 5-year strategic plan for research and prevention to work toward meeting five strategic goals.

To help us review midcourse progress, we request your comment on the Center's work and goals. NIOSH is especially interested in comments that address the following topics:

Research Priorities

1. What research should NIOSH consider pursuing during the remaining period covered by the NIOSH Center for Motor Vehicle Safety: Strategic Plan for Research and Prevention, 2014-2018?

2. What research should NIOSH begin planning to initiate beyond 2018?

3. Are there additional external research partners NIOSH should work with?

Communications and Outreach

4. What specific resources or tools are most urgently needed to move prevention of work-related crashes forward?

5. What audience(s) for workplace crash-prevention information should NIOSH prioritize in planning its communication strategy?

6. What are your organization's preferred digital communication channels for receiving workplace crash-prevention information (e.g., email, social media, eNewsletter, Web page)?

Use of NIOSH Products

7. How have you or your organization used information from the NIOSH Center for Motor Vehicle Safety? Of particular interest is information on changes made in workplace motor vehicle safety programs based on research results and/or communication materials and the impact of those changes.

For information about the NIOSH Center for Motor Vehicle Safety, visit www.cdc.gov/niosh/motorvehicle.

For information about Center for Motor Vehicle Safety progress towards meeting strategic goals, see the following supporting documents in http://www.regulations.gov: NIOSH Center for Motor Vehicle Safety: Strategic Plan for Research and Prevention, 2014-2018; NIOSH Center for Motor Vehicle Safety: Progress Report 2016 http://www.cdc.gov/niosh/motorvehicle/pdfs/progressreport.pdf and NIOSH Center for Motor Vehicle Safety: Performance Measures http://www.cdc.gov/niosh/motorvehicle/pdfs/performancemeasures.pdf.

II. Public Web Meeting

NIOSH will hold a public web meeting on September 14, 2016 from 1:00 p.m. to 5:00 p.m. Eastern Time, to allow for comments on future directions for the NIOSH Center for Motor Vehicle Safety. Attendance to this public web meeting is first come, first served.

Confirm your attendance to this web meeting by sending an email to rolsavsky@cdc.gov with the subject line “Attendance: Public web meeting” by September 1, 2016. An email confirming registration will be sent from NIOSH and will include details needed to participate.

Requests to make presentations at the public web meeting should be emailed to rolsavsky@cdc.gov with the subject line “Request to present: Public web meeting” by September 1, 2016. All requests to present should contain the name, address, telephone number, and relevant organizational affiliation(s) of the presenter. Presenters will be assigned a 10-minute slot on the agenda. Presenters who wish to use slides must email an electronic file in Microsoft PowerPoint format to rolsavsky@cdc.gov with the subject line “Presentation: Public web meeting” by September 1, 2016. An email confirming the presentation request will be sent from NIOSH and will include details needed to present and an approximate start time for the presentation. Presenters are encouraged to be on-line at the start of the web meeting, since the web meeting could end early and presenter may miss their opportunity to present. For assistance with technical difficulties the day of the web meeting, email Sydney Webb at yht4@cdc.gov.

If a presenter is not on-line when his/her presentation is scheduled to begin, the remaining presenters will be heard in order. After the last scheduled presenter is heard, those who missed their opportunity may be allowed to present, limited by time available.

Attendees who wish to speak, but did not submit a request for the opportunity to make a presentation, may be given this opportunity after the scheduled presenters are heard, at the discretion of the presiding officer and limited by time available.

Instructions

All information received in response to this notice must include the agency name and docket number [CDC-2016-0067 and NIOSH 270-A]. The public web meeting, including all presentations and slides, will be recorded, transcribed, and posted without change to http://www.regulations.gov, including any personal information provided as well as all relevant comments received. All information received in response to this notice will also be available for public examination and copying at the NIOSH Docket Office, 1150 Tusculum Avenue, Room 155, Cincinnati, Ohio 45226-1998.

John Howard,
Director, National Institute for Occupational Safety and Health, Centers for Disease Control and Prevention.

[FR Doc. 2016-19350 Filed 8-12-16; 8:45 am]

BILLING CODE 4163-19-P